Title 3—

The President

Memorandum of December 12, 2024

Establishment of the China Censorship Monitor and Action Group

Memorandum for the Heads of Executive Departments and Agencies

By the authority vested in me as President by the Constitution and the laws of the United States of America, and to monitor and address the effects of any efforts by the People's Republic of China (PRC), either directly or through proxies, to censor or intimidate any United States person, it is hereby ordered as follows:

Section 1. Policy. Consistent with section 5515(b) of the James M. Inhofe National Defense Authorization Act for Fiscal Year 2023 (Public Law 117-263, 22 U.S.C. 3363(b)) (the “Act”), I am directing the Assistant to the President for National Security Affairs and the Director of the National Economic Council to lead an interagency effort to oversee the development and execution of an integrated Federal Government strategy to monitor and address the effects of any efforts by the PRC to censor or intimidate, in the United States or in any of its possessions or territories, any United States person, including a United States company that conducts business in the PRC, exercising its freedom of speech.

Sec. 2. Establishment. There is established within the Executive Office of the President the China Censorship Monitor and Action Group (Task Force).

Sec. 3. Membership. (a) The Task Force shall be chaired by the Assistant to the President for National Security Affairs, or his or her designee, and vice-chaired by the Director of the National Economic Council, or his or her designee.

(b) In addition to the Chair and the Vice Chair, the Task Force shall consist of representatives from the following executive departments and agencies (agencies), the heads of which shall designate or appoint personnel at the level of Assistant Secretary or above to participate in the Task Force:

(i) the Department of State;

(ii) the Department of the Treasury;

(iii) the Department of Defense;

(iv) the Department of Justice;

(v) the Department of Agriculture;

(vi) the Department of Commerce;

(vii) the Department of Education;

(viii) the Department of Homeland Security;

(ix) the Office of the Director of National Intelligence;

(x) the Office of the United States Trade Representative;

(xi) the Central Intelligence Agency;

(xii) the Federal Bureau of Investigation; and

(xiii) other agencies and offices as the President may, from time to time, designate.

Sec. 4. Mission and Function. The Task Force shall meet not less frequently than twice per year to oversee the development and execution of the integrated Federal Government strategy described in section 5515(b)(3)(A) of the Act (22 U.S.C. 3363(b)(3)(A)). That strategy shall reflect the collective views of the members of the Task Force and shall be informed by consultations with agencies and independent agencies that are not represented on the Task Force; relevant stakeholders in the private sector and the media; and relevant stakeholders among foreign allies and partners of the United States.

Sec. 5. Annual Report of the Task Force. (a) Within 120 days of the date of this memorandum, the Task Force shall submit to the President and the appropriate congressional committees, as defined in section 5515(a)(1) of the Act (22 U.S.C. 3363(a)(1)), the strategy described in section 5515(b)(3)(A) of the Act.

(b) Within 180 days of the date of this memorandum, the Task Force shall submit to the President and the appropriate congressional committees, and make publicly available to the extent consistent with national security and other executive branch confidentiality interests, the first annual report described in section 5515(b)(6)(A)-(B) of the Act (22 U.S.C. 3363(b)(6)).

(c) Within 1 year of submitting the first annual report described in subsection (b) of this section, and every year thereafter, the Task Force shall submit to the President and the appropriate congressional committees, and make publicly available to the extent consistent with national security and other executive branch confidentiality interests, the required follow-on annual reports described in section 5515(b)(6)(A)-(B) of the Act, until the requirement terminates as specified in section 5515(d) of the Act (22 U.S.C. 3363(d)).

Sec. 6. Definition. For purposes of this memorandum, the term “United States person” shall have the meaning provided in section 5515(a)(3) of the Act (22 U.S.C. 3363(a)(3)).

Sec. 7. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Attorney General is authorized and directed to publish this memorandum in the Federal Register.

THE WHITE HOUSE,

Washington, December 12, 2024

[FR Doc. 2024-30203

Filed 12-16-24; 11:15 am]

Billing code 4410-19-P